DEPARTMENT OF COMMERCE

International Trade Administration

A-570-892

Carbazole Violet Pigment 23 from the People's Republic of China: Notice of Court Decision Not In Harmony with Final Determination of Sales at Less than Fair Value

AGENCY: Import Administration, International Trade Administration, Department of Commerce.

SUMMARY: On December 8, 2006, the United States Court of International Trade (“CIT”) sustained the final remand determination made by the Department of Commerce (“the Department”) pursuant to the CIT's remand of the final determination of the less-than-fair-value investigation of Carbazole Violet Pigment 23 (“CVP 23”) from the People's Republic of China. See Goldlink Industries Co., Ltd., Trust Chem Co., Ltd., Tianjin Hanchem International Trading Co., Ltd. V. United States, and Nation Ford Chemical Company and Sun Chemical Corporation, and Clariant Corporation, Consol. Ct. 05-00060, (Ct. Int'l Trade Dec. 8, 2006). This case arises out of the Department's final determination in the investigation covering the period April 1, 2003, through September 30, 2003. See Notice of Final Determination of Sales at Less Than Fair Value for Carbazole Violet Pigment 23 from the People's Republic of China, 69 FR 67304 (November 17, 2004) (“Final Determination”). The final judgment in this case was not in harmony with the Department's Final Determination.

EFFECTIVE DATE: December 18, 2006.

FOR FURTHER INFORMATION CONTACT: Paul Stolz or Charles Riggle, AD/CVD Operations, Office 8, Import Administration, International Trade Administration, U.S. Department of Commerce, 14th Street and Constitution Avenue, NW, Washington DC 20230; telephone: (202) 482-4474 or (202) 482-0650, respectively.

SUPPLEMENTARY INFORMATION: In Goldlink Industries Co., Ltd., Trust Chem Co., Ltd., Tianjin Hanchem International Trading Co., Ltd. v. United States, 431 F. Supp. 2d 1323 (CIT 2006), the CIT remanded the underlying final determination to the Department to (1) re-examine its determination to apply total adverse facts available (“AFA”) to Tianjin Hanchem International Trading Co., Ltd. (“Hanchem”); (2) further explain its determination that the subsidies Pidilite Industries, Ltd. (“Pidilite”), an Indian producer of CVP, received did not distort Pidilite's financial ratios; (3) re-examine the surrogate values for benzene sulfonyl chloride, calcium chloride and steam; (4) either include terminal charges and brokerage fees in movement costs or precisely and reasonably explain its decision not to include such costs; and (5) re-open the record and allow parties to submit new information as necessary.

On September 22, 2006, the Department released the Draft Remand Redetermination to interested parties and requested that they submit comments by September 27, 2006. The petitioners submitted comments on September 27, 2006. Respondents did not submit comments. On October 16, 2006, the Department issued to the CIT its final results of redetermination pursuant to remand. In the remand redetermination the Department (1) applied partial AFA to Hanchem; (2) explained how the subsidies Pidilite received did not distort Pidilite's financial ratios; (3) re-calculated the surrogate values for benzene sulfonyl chloride, calcium chloride and steam; (4) explained why it is not appropriate to include terminal charges and brokerage fees in movement costs; and (5) re-opened the record and allowed parties to submit new information with respect to the surrogate value of steam. Thus, the Department recalculated the antidumping duty rates applicable to Goldlink Industries Co., Ltd., Trust Chem Co., Ltd., Hanchem, Nantong Haidi Chemicals Co., Ltd., and the PRC-wide entity. On December 8, 2006, the CIT sustained the final redetermination made by the Department pursuant to the CIT's remand of the Final Determination.

In its decision in Timken Co., v. United States, 893 F.2d 337, 341 (Fed. Cir. 1990) (“Timken”), the United States Court of Appeals for the Federal Circuit (“CAFC”) held that, pursuant to section 516A(e) of the Tariff Act of 1930, as amended (“the Act”), the Department must publish a notice of a court decision that is not “in harmony” with a Department determination, and must suspend liquidation of entries pending a “conclusive” court decision. The CIT's decision in this case on December 8, 2006, constitutes a final decision of the court that is not in harmony with the Department's Final Determination. This notice is published in fulfillment of the publication requirements of Timken. Accordingly, the Department will continue the suspension of liquidation of the subject merchandise pending the expiration of the period of appeal or, if appealed, pending a final and conclusive court decision. In the event the CIT's ruling is not appealed or, if appealed, upheld by the CAFC, the Department will instruct U.S. Customs and Border Protection to revise the cash deposit rates covering the subject merchandise.

This notice is issued and published in accordance with section 516A(c)(1) of the Act.

Dated: December 27, 2006.
Stephen J. Claeys,
Acting Assistant Secretary for Import Administration.

[FR Doc. E6-22559 Filed 1-3-07; 8:45 am]

Billing Code: 3510-DS-S